DEPARTMENT OF LABOR

Bureau of Labor Statistics

Technical Advisory Committee; Notice of Meeting and Agenda; Correction

AGENCY: Bureau of Labor Statistics.

ACTION: Notice; correction.

SUMMARY: The Bureau of Labor Statistics published a document in the Federal Register on October 18, 2024, announcing the November 7, 2024 Technical Advisory Committee meeting. The document contained an incorrect registration link.

SUPPLEMENTARY INFORMATION:

Correction

In the Federal Register Notice on page 83908 in the third column, correct https://blstac.beventbrite.com to read: Individuals planning to attend the meeting should register at https://blstac.eventbrite.com.

Dated: October 23, 2024.
Leslie Bennett,
Chief, Division of Management Systems.

[FR Doc. 2024-25030 Filed 10-28-24; 8:45 am]

BILLING CODE 4510-24-P